DEPARTMENT OF COMMERCE

International Trade Administration

(C-533-844, C-560-819)

Certain Lined Paper Products from India and Indonesia: Extension of Time Limit for Preliminary Determinations in the Countervailing Duty Investigations

AGENCY: Import Administration, International Trade Administration, Department of Commerce.

EFFECTIVE DATE: November 8, 2005.

FOR FURTHER INFORMATION CONTACT: Maura Jeffords or Robert Copyak (India), and David Layton or David Neubacher (Indonesia) AD/CVD Operations, Import Administration, International Trade Administration, U.S. Department of Commerce, 14th Street and Constitution Avenue, NW, Washington, DC 20230; telephone: (202) 482-3146 or (202) 482-2209, and (202) 482-0371 or (202) 482-5823, respectively.

SUPPLEMENTARY INFORMATION:

Background

On September 29, 2005, the Department of Commerce (“the Department”) initiated the countervailing duty investigations of lined paper products from India and Indonesia. See Notice of Initiation of Countervailing Duty Investigation: Certain Lined Paper Products from India and Indonesia, 70 FR 58690 (October 7, 2005). Currently, the preliminary determinations are due no later than December 5, 2005.

Extension of Due Date for Preliminary Determination

On October 20, 2005, the Association of American School Paper Suppliers (“Petitioner”) submitted a letter requesting that the Department postpone the preliminary determinations of the countervailing duty investigations of certain lined paper products from India and Indonesia by 65 days. Under section 703(c)(1)(A) of the Act, the Department may extend the period for reaching a preliminary determination in a countervailing duty investigation until not later than the 130th day after the date on which the administering authority initiates an investigation if the petitioner makes a timely request for an extension of the period within which the determination must be made under subsection (b) (section 703(b) of the Act). Accordingly, we are extending the due date for the preliminary determinations by 65 days to no later than February 6, 2006.

This notice is issued and published pursuant to section 703(c)(2) of the Act.

Dated: November 1, 2005.
Stephen J. Claeys,
Deputy Assistant Secretary for Import Administration.

[FR Doc. 05-22243 Filed 11-7-05; 8:45 am]

BILLING CODE 3510-DS-S